ENVIRONMENTAL PROTECTION AGENCY

[FRL 7035-1]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Sandy Farmer at 260-2740, or email at Farmer.sandy@epa.gov, and please refer to the appropriate EPA Information Collection Request (ICR) Number.

SUPPLEMENTARY INFORMATION:

OMB Responses to Agency Clearance Requests

OMB Approvals

EPA ICR No. 1698.04; Reporting and Recordkeeping Requirements Under EPA's Waste Wise Program; was approved 05/09/2001; OMB No. 2050-0139; expires 05/30/2004.

EPA ICR No. 1442.17; Land Disposal Restrictions; on 40 CFR Part 268; was approved 02/08/2001; OMB No. 2050-0085; expires 02/29/2004.

EPA ICR No. 1961.01; Meat Products Industry Survey; was approved 03/01/2001; OMB No. 2050-0225; expires 02/29/2004.

EPA ICR No. 1198.06; Chemical-Specific Rules, TSCA section 8(a); in 40 CFR part 704, subpart B was approved 04/05/2001; OMB No. 2070-0067; expires 04/30/2004.

EPA ICR No. 1135.07; New Source Performance Standards (NSPS) for Magnetic Tape Coating Facilities; 40 CFR part 60, subpart SSS; was approved 02/15/01; OMB No. 2060-0171; expires 02/29/2004.

EPA ICR No. 1630.07; Oil Pollution Act Facility Response Plans—40 CFR part 112.20; was approved 05/02/2001; OMB No. 2050-0135; expires 05/31/2004.

EPA ICR No. 1647.03; Exports from and Imports to the United States under International and Bilateral Waste Agreements; in 40 CFR part 262, subparts E, F, and H was approved 04/23/2001; OMB No. 2050-0143; expires 04/30/2004.

EPA ICR No. 1049.09; Notification of Episodic Releases of Oil and Hazardous Substances (Renewal); in 40 CFR parts 110, 117 & 302 was approved 04/24/2001; OMB No. 2050-0046; expires 04/30/2004.

Short Term Extensions

EPA ICR No. 0586.08; Preliminary Assessment Information Rule (PAIR)—TSCA Section 8(a); in 40 CFR part 712; OMB No. 2070-0054; on 03/30/2001 OMB extended the expiration date through 05/31/01.

EPA ICR No. 1812 Public Water System Annual Compliance Report; OMB No. 2020-0020; on 03/20/01 OMB extended the expiration date through 04/30/2001.

EPA ICR No. 1000.06; Polychlorinated Biphenyls (PCBs) Used in Electrical Equipment; in 40 CFR part 761.20(a)(1)(iii), (iv), (xi), (xii) and (xv); OMB No. 2070-003; on 03/26/2001 OMB extended the expiration date through 06/30/2001.

EPA ICR No. 1012.06; Polychlorinated Biphenyls (PCBs) Disposal Permitting Regulation; in 40 CFR parts 761.60, 761.70 and 761.75; OMB No. 2070-0011; on 03/26/2001 OMB extended the expiration date through 06/30/2001.

EPA ICR No. 1425/04; Application for Reimbursement to Local Governments for Emergency 123; in 40 CFR part 310; OMB No. 2050-0077; on 03/26/2001 OMB extended the expiration date through 06/30/2001.

EPA ICR No. 1445.04; Continuous Release Reporting Regulations (CRRR); in 40 CFR part 308.8; OMB No. 2050-0086; on 03/26/2001 OMB extended the expiration date through 09/30/2001.

EPA ICR No. 0916.08; Annual Updates of Emission Data to the Aerometic Information Retrieval System (AIRS); in 40 CFR part 51.321 to 51.333 inclusive; OMB No. 2060-0088; on 04/30/2001 OMB extended the expiration date through 05/31/2001.

Comment Filed

EPA ICR No. 0801.13; Requirements for Generators, Transporters, and Hazardous Waste Management Facilities Under the RCRA Hazardous Waste Manifest; in 40 CFR parts 262, 263, 264, and 265; OMB No. 2050-0039; on 04/23/2001 OMB filed comment and continue.

Withdrawn/Continued

EPA ICR No. 1648.03; Control Technology Determination for Equivalent Emission Limitations by Permit; OMB No. 2060-0266; in 40 CFR 63.1-15, 63.50-56; this ICR was withdrawn from OMB review.

OMB Withdrawals

EPA ICR No. 1984.01; National Emission Standards for Hazardous Air Pollutants (NESHAP) for Plywood and Composite Wood Products Manufacturing Plants (Proposed rule); on 02/13/2001 this ICR was withdrawn from OMB review.

EPA ICR No. 1958.01; State Clean Air Act Section 507 Program Cooperative Agreement Demonstration Outreach Program Evaluation; on 03/12/2001 this ICR was withdrawn from OMB review.

EPA ICR No. 1941.01; Proposed Information Collection Request for the Evaluation of PrintSTEP; on 03/12/2001 this ICR was withdrawn from OMB review.

Transfer

EPA ICR No. 1487.06; Cooperative Agreements and Superfund Contracts for Superfund Response Actions; OMB No. 2030-0038; was transferred to OMB No. 2050-0179 effective 05/17/01.

Dated: August 2, 2001.
Oscar Morales,
Director, Collections Strategies Division.

[FR Doc. 01-20789 Filed 8-16-01; 8:45 am]

BILLING CODE 6560-50-M